DEPARTMENT OF COMMERCE

International Trade Administration

[A-549-502]

Circular Welded Carbon Steel Pipes and Tubes From Thailand: Notice of Court Decision Not in Harmony With the Results of Antidumping Duty Administrative Review; Notice of Amended Final Results

AGENCY: Enforcement and Compliance, International Trade Administration, Department of Commerce.

SUMMARY: On February 4, 2026, the U.S. Court of International Trade (CIT) issued its final judgment in Saha Thai Steel Pipe Public Company Limited v. United States, Court No. 21-00049, sustaining the Department of Commerce (Commerce)'s first remand results pertaining to the administrative review of the antidumping duty (AD) order on circular welded carbon steel pipes and tubes from Thailand covering the period March 1, 2018, through February 28, 2019. Commerce is notifying the public that the CIT's final judgment is not in harmony with Commerce's final results of the administrative review, and that Commerce is amending the final results with respect to the dumping margin assigned to Saha Thai Steel Pipe Public Company Limited (Saha Thai).

DATES: Applicable February 14, 2026.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On January 27, 2021, Commerce published in the Federal Register the Final Results of the 2018-2019 AD administrative review of circular welded carbon steel pipes and tubes from Thailand.¹ Commerce found that Saha Thai did not provide requested information with respect to a substantial portion of its U.S. sales and failed to act to the best of its ability.² As a result, Commerce reached its final determination based on facts otherwise available, including the application of adverse inferences.³

¹ See Circular Welded Carbon Steel Pipes and Tubes from Thailand: Final Results of Antidumping Duty Administrative Review and Final Determination of No Shipments, In Part; 2018-2019, 86 FR 7259 (January 29, 2021) (Final Results).

² Id.

³ Id.

Saha Thai appealed Commerce's Final Results. On December 2, 2022, the CIT remanded the Final Results to Commerce, holding that Commerce had failed to provide notice and an opportunity to remedy as required by law and that it had failed to explain adequately in the record the reason that it chose to draw and adverse inference.⁴ The CIT found that Commerce's decision was not supported by substantial evidence or in accordance with the law and remanded the issue to Commerce for further proceedings.⁵

⁴ See Saha Thai Steel Pipe Public Co., Ltd., v. United States, 605 F. Supp. 3d 1348 (CIT 2022) (Remand Order).

⁵ Id.

In its final remand redetermination, issued in July 2025, Commerce reopened the record of the administrative review, solicited a full revised questionnaire response from Saha Thai, and recalculated Saha Thai's weighted-average dumping margin by including all sales of dual-stenciled pipe.⁶ Commerce also analyzed a particular market situation (PMS) in its final remand redetermination, finding that the nature of Saha Thai's costs of producing subject merchandise was outside the ordinary course and trade and indicated an extraordinary circumstance that warrants a PMS adjustment.⁷ The CIT sustained Commerce's final remand redetermination.⁸

⁶ See Final Results of Redetermination Pursuant to Court Remand, Saha Thai Steel Pipe Public Co., Ltd., v. United States, 605 F. Supp. 3d 1348 (CIT 2022), dated July 31, 2025 (Final Remand).

⁷ See Final Remand.

⁸ See Saha Thai Steel Pipe Public Company Limited v. United States, Ct. No. 21-00049, Slip Op. 26-9 (CIT February 4, 2026).

Timken Notice

In its decision in Timken,⁹ as clarified by Diamond Sawblades,¹⁰ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's February 4, 2026, judgment constitutes a final decision of the CIT that is not in harmony with Commerce's Final Results. Thus, this notice is published in fulfillment of the publication requirements of Timken.

⁹ See Timken Co. v. United States, 893 F.2d 337 (Fed. Cir. 1990) (Timken).

¹⁰ See Diamond Sawblades Manufacturers Coalition v. United States, 626 F.3d 1374 (Fed. Cir. 2010) (Diamond Sawblades).

Amended Final Results

Because there is now a final court judgment, Commerce is amending its Final Results with respect to Saha Thai as follows:

Exporter/producer | Remand weighted- average dumping margin (percent)
Saha Thai Steel Pipe Public Co., Ltd | 0.00

Cash Deposit Requirements

Because Saha Thai has a superseding cash deposit rate, i.e., there have been final results published in a subsequent administrative review, we will not issue revised cash deposit instructions to U.S. Customs and Border Protection (CBP). This notice will not affect the current cash deposit rate.

Liquidation of Suspended Entries

At this time, Commerce remains enjoined by CIT order from liquidating entries that were: (1) produced and exported by Saha Thai Steel Pipe Public Company Limited; (2) the subject of Commerce's Final Results; and (3) entered, or withdrawn from warehouse, for consumption, during the period March 1, 2018, through February 28, 2019. These entries will remain enjoined pursuant to the terms of the injunction during the pendency of any appeals process.

In the event the CIT's ruling is not appealed, or, if appealed, upheld by a final and conclusive court decision, Commerce intends to instruct CBP to assess antidumping duties on unliquidated entries of subject merchandise (1) produced and exported by Saha Thai Steel Pipe Public Company Limited; (2) the subject of Commerce's Final Results; and (3) entered, or withdrawn from warehouse, for consumption, during the period March 1, 2018, through February 28, 2019, in accordance with 19 CFR 351.212(b). We will instruct CBP to assess antidumping duties on all appropriate entries covered by this review when the importer-specific ad valorem assessment rate is not zero or de minimis. Where an import-specific ad valorem assessment rate is zero or de minimis,¹¹ we will instruct CBP to liquidate the appropriate entries without regard to antidumping duties.

¹¹ See 19 CFR 351.106(c)(2).

Notification to Interested Parties

This notice is issued and published in accordance with sections 516A(c) and (e) and 777(i)(1) of the Act.

Dated: February 12, 2026.
Christopher Abbott,
Deputy Assistant Secretary for Policy and Negotiations, performing the non-exclusive functions and duties of the Assistant Secretary for Enforcement and Compliance.

[FR Doc. 2026-03193 Filed 2-17-26; 8:45 am]

BILLING CODE 3510-DS-P